DEPARTMENT OF EDUCATION

[CFDA No: 84.047A]

Office of Postsecondary Education, Upward Bound Program Participant Expansion Initiative; Notice Inviting Applications for Supplemental Awards for Fiscal Year (FY) 2003

Purpose of Program: The purpose of this initiative is to help the Upward Bound Program achieve one of its key performance goals: increasing the college enrollment rate of low-income, first generation college students.

Eligible Applicants: All currently funded Upward Bound projects successful in the FY 2003 grant competition. Veterans Upward Bound projects and Upward Bound Math-Science projects are not eligible to participate.

Applications Available: August 21, 2003.

Deadline for Transmittal of Applications: September 8, 2003.

Deadline for Intergovernmental Review: Completed on February 11, 2003.

Estimated Available Funds: $18,000,000.

Estimated Range of Awards: $50,000-$100,000.

Estimated Average Size of Awards: $100,000.

Estimated Number of Awards: 180.

Note: The Department is not bound by any estimates in this notice.

Project Period: Up to 4 years.

Applicable Regulations: (a) The Education Department General Administrative Regulations (EDGAR) in 34 CFR parts 74, 75, 77, 79, 82, 86, 97, 98, and 99; and (b) the regulations for this program in 34 CFR part 645.

SUPPLEMENTARY INFORMATION: Eligible applicants that meet all the criteria for the absolute priority, except for having received supplemental funding under the FY 2000 participant expansion initiative, are invited to apply and will be funded, subject to the availability of funds, as described in the Notice of Final Priority.

Applicants for supplemental awards must submit an application that contains:

• A list, certified by the Upward Bound project director, of the target schools in which at least 50 percent of the students were eligible for the Free Lunch program during the 2001-02 or 2002-03 school year;

• The number of additional students, at least 10 (if requesting $50,000), at least 15 (if requesting $75,000), or at least 20 (if requesting $100,000), that the project plans to serve;

• Agreement to select participants from the identified eligible target schools that have one or more of the greatest need criteria described in the Notice of Final Priority;

• A brief description of the activities that will be supported with the supplemental funding;

• A budget summary; and

• A budget narrative describing how the supplemental funds will be used.

Priority

Absolute Priority

Under 34 CFR 75.105(c)(3), the Secretary will give an absolute preference to applications that meet the following absolute priority.

The Secretary will provide supplemental funds of up to $100,000 to regular Upward Bound Program projects that:

1. Were selected for funding under the FY 2003 Upward Bound Program grant competition;

2. Serve a target high school in which at least 50 percent of the students were eligible to receive free lunch under the National School Lunch Act during the 2001-2002 or 2002-2003 school year;

3. Received supplemental funds in FY 2000 under the Notice of Final Priority dated July 24, 2000, 65 FR 45698-45699; and

4. (a) Agree to select and serve at least 20 students who are eligible for Upward Bound services, attend a target high school in which at least 50 percent of the students were eligible to receive free lunch under the National School Lunch Act during the 2001-2002 or 2002-2003 school year and have the greatest need for project services, if requesting $100,000.

(b) Agree to select and serve at least 15 students who are eligible for Upward Bound services, attend a target high school in which at least 50 percent of the students were eligible to receive free lunch under the National School Lunch Act during the 2001-2002 or 2002-2003 school year and have the greatest need for project services, if requesting $75,000.

(c) Agree to select and serve at least 10 students who are eligible for Upward Bound services, attend a target high school in which at least 50 percent of the students were eligible to receive free lunch under the National School Lunch Act during the 2001-2002 or 2002-2003 school year and have the greatest need for project services, if requesting $50,000.

Students who have the greatest need for project services are those students who:

a. Have not met the state academic achievement standard for grade eight in reading/language arts;

b. Have not met the state academic achievement standard for grade eight in math; or

c. Have a grade point average of 2.5 or less (on a 4.0 scale) for the most recent school year for which grade point averages are available.

Veterans Upward Bound projects and Upward Bound Math-Science projects are not eligible to participate in this initiative.

The Secretary will fund applications in the following order:

1. Applications that meet the absolute priority.

2. All other applications that meet criteria 1, 2, and 4 above.

If funds are available after funding all applications that meet the absolute priority, the Secretary will select from among the remaining applicants based upon the highest scores received (including prior experience points) in the FY 2003 Upward Bound grant competition. If there are insufficient funds for all applications with the same score, the Secretary will select for funding those applicants with the lowest average cost per Upward Bound participant (Federal funds only) for the 2001-2002 program year.

FOR APPLICATIONS AND FURTHER INFORMATION CONTACT: Dr. Margarita Benitez, Sheryl Wilson, or Gaby Watts, U.S. Department of Education, 1990 K Street, NW., Room 7020, Washington, DC 20006-8510. Telephone (202) 502-7600. The e-mail address for the Office of Federal TRIO Programs is: Trio@ed.gov.

The e-mail addresses for Dr. Benitez, Ms. Wilson and Ms. Watts are: Margarita.Benitez@ed.gov, Sheryl.Wilson@ed.gov, Gaby.Watts@ed.gov.

If you use a telecommunications device for the deaf (TDD), you may call the Federal Information Relay Service (FIRS) at 1-888-877-8339.

Individuals with disabilities may obtain this document in an alternative format (e.g., Braille, large print, audiotape, or computer diskette) on request to the contact persons listed in the preceding paragraph. However, the Department is not able to reproduce in an alternative format the standard forms included in the application package.

Electronic Access to This Document

You may view this document, as well as all other Department of Education documents published in the Federal Register, in text or Portable Document Format (PDF) on the Internet at the following site: www.ed.gov/legislation/FedRegister.

To use PDF you must have Adobe Acrobat Reader which is available free at this site. If you have questions about using the PDF, call the U.S. Government Printing Office (GPO), toll free, at 1-888-293-6498; or in the Washington, DC area at (202) 512-1530.

You may also view this document in PDF at the following site: http://www.ed.gov/news.html.

Note: The official version of this document is the document published in the Federal Register. Free Internet access to the official edition of the Federal Register and the Code of Federal Regulations is available on GPO Access at: http://www.access.gpo.gov/nara/index.html.

Program Authority: 20 U.S.C. 1070.

Dated: August 18, 2003.
Sally Stroup,
Assistant Secretary Office of Postsecondary Education.

[FR Doc. 03-21583 Filed 8-19-03; 3:49 pm]

BILLING CODE 4000-01-P